DEPARTMENT OF VETERANS AFFAIRS

[OMB Control No. 2900-0034]

Agency Information Collection Activity Under OMB Review: Trainee Request for Leave (Chapter 31, Veteran Readiness and Employment)

AGENCY: Veterans Benefits Administration, Department of Veterans Affairs.

ACTION: Notice.

SUMMARY: In compliance with the Paperwork Reduction Act (PRA) of 1995, this notice announces that the Veterans Benefit Administration, Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0034.”

FOR FURTHER INFORMATION CONTACT: VA PRA information: Maribel Aponte, (202) 461-8900, vacopaperworkreduact@va.gov.

SUPPLEMENTARY INFORMATION:

Title: VA Form 28-1905h, Trainee Request for Leave (Chapter 31, Veteran Readiness and Employment).

OMB Control Number: 2900-0034 https://www.reginfo.gov/public/do/PRASearch.

Type of Review: Revision of a currently approved collection.

Abstract: Both the Department of Veterans Affairs staff from Veteran Readiness and Employment (VR&E) Division, VR&E program participant, and trainer or authorized school official completes the VA Form 28-1905h, Trainee Request for Leave (Chapter 31, Veteran Readiness and Employment). VA Form 28-1905h serves as the only document for requesting leave and for providing the information necessary to determine whether to approve the leave request. A trainer or authorized school official must verify on the form the effect the absence will have on the program participant's progress in the training program. The case manager (normally a Vocational Rehabilitation Counselor) assigned to the program participant's case overseeing the training program approves or denies the leave request. Upon approval, the program participant can receive subsistence allowance and other program services during the leave period as if he or she were continuing to attend training under Title 38 (CFR) § 21.270.

An agency may not conduct or sponsor, and a person is not required to respond to a collection of information unless it displays a currently valid OMB control number. The Federal Register Notice with a 60-day comment period soliciting comments on this collection of information was published at 89 FR 51596, June 18, 2024.

Affected Public: Individuals or Households.

Estimated Annual Burden: 9,750 hours.

Estimated Average Burden per Respondent: 15 minutes.

Frequency of Response: Once, on occasion.

Estimated Number of Respondents: 39,000.

Authority: 44 U.S.C. 3501 et seq.

Maribel Aponte,
VA PRA Clearance Officer, Office of Enterprise and Integration, Data Governance Analytics, Department of Veterans Affairs.

[FR Doc. 2024-19723 Filed 8-30-24; 8:45 am]

BILLING CODE 8320-01-P